DEPARTMENT OF STATE

[Public Notice 11742]

In the Matter of the Designation of Aum Shinrikyo (and Other Aliases) as a Foreign Terrorist Organization

Based upon a review of the Administrative Record assembled in this matter and in consultation with the Attorney General and the Secretary of the Treasury, I conclude that the circumstances that were the basis for the designation of the Aum Shinrikyo (and other aliases) as a Foreign Terrorist Organization have changed in such a manner as to warrant revocation of the designation.

Therefore, I hereby determine that the designation of Aum Shinrikyo (and other aliases) as a Foreign Terrorist Organization, pursuant to Section 219 of the Immigration and Nationality Act, as amended (8 U.S.C. 1189), shall be revoked.

This determination shall be published in the Federal Register.

Authority: 8 U.S.C. 1189.

Dated: May 11, 2022.
Antony J. Blinken,
Secretary of State.

[FR Doc. 2022-10866 Filed 5-19-22; 8:45 am]

BILLING CODE 4710-AD-P